DEPARTMENT OF LABOR

Mine Safety and Health Administration

Petitions for Modification

The following parties have filed petitions to modify the application of existing safety standards under section 101(c) of the Federal Mine Safety and Health Act of 1977.

1. Canyon Fuel Company, LLC

[Docket No. M-2003-052-C]

Canyon Fuel Company, LLC, HC 35 Box 380, Helper, Utah 84526 has filed a petition to modify the application of 30 CFR 75.350 (Air courses and belt haulage entries) to its Skyline Mine (MSHA I.D. No. 42-01566) located in Carbon County, Utah. The petitioner requests that its previously granted petition for modification, docket number M-2000-040-C, be amended to revise paragraph V.(C) of the Proposed Decision and Order to read as follows: “In addition to requirements of V.(B), diesel-powered equipment classified as ‘heavy-duty’ under 30 CFR 75.1908(a), must include a means, maintained in operating condition, to prevent the spray from ruptured diesel fuel, hydraulic oil, and lubricating oil lines from being ignited by contact with engine exhaust system component surfaces such as shielding, conduit, non-absorbent insulating materials, or other similar means.” The petitioner asserts that this amendment to its previously granted petition will prevent a diminution of safety caused by application of the existing standard and that this amendment will at all times provide at least the same measure of protection as the existing standard.

2. Jim Walter Resources, Inc.

[Docket No. M-2003-053-C]

Jim Walter Resources, Inc., P.O. Box 133, Brookwood, Alabama 35444 has filed a petition to modify the application of 30 CFR 75.507 (Power connection points) to its No. 4 Mine (MSHA I.D. No. 01-01247), No. 5 Mine (MSHA I.D. No. 01-01322), and No. 7 Mine (MSHA I.D. No. 01-01401) all located in Tuscaloosa County, Alabama. The petitioner proposes to use deep well submersible pumps driven by electric motors to remove water from sealed areas in the underground mines. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before September 8, 2003. Copies of these petitions are available for inspection at that address.

Dated at Arlington, Virginia this 31st day of July 2003.
Marvin W. Nichols, Jr.,
Director, Office of Standards, Regulations, and Variances.

[FR Doc. 03-20269 Filed 8-7-03; 8:45 am]

BILLING CODE 4510-43-P